DEPARTMENT OF HEALTH AND HUMAN SERVICES

Centers for Medicare and Medicaid Services

[Document Identifiers: CMS-10074, CMS-R-0290, CMS-R-0285, & CMS-2744]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: New collection; Title of Information Collection: Program for the All-Inclusive Elderly Health Survey (PHS); Form No.: CMS-10074 (OMB# 0938-NEW); Use: The Centers for Medicare & Medicaid Services has developed a survey, the PHS, that is similar to the Health Outcomes Survey (HOS). The main purpose of the PHS is to collect health status information that may be used to adjust Medicare payments to PACE organizations. It has been successfully pilot-tested to assess response rates and accuracy of responses under different distribution approaches. The pilot test enabled CMS to select an approach whereby PACE enrollees will be sent surveys to fill out and can request assistance from family or professionals.; Frequency: Annually; Affected Public: Individuals or Households, Not-for-profit institutions; Number of Respondents: 15,800; Total Annual Responses: 5,814; Total Annual Hours: 1082.

(2) Type of Information Collection Request: Extension of a currently approved collection; Title of Information Collection: Procedures for Making National Coverage Decisions; Form No.: CMS-R-0290 (OMB# 0938-0776); Use: These information collection requirements provide the process CMS will use to make a national coverage decision for a specific item or service under sections 1862 and 1871 of the Social Security Act. This will streamline our decision making process and will increase the opportunities for public participation in making national coverage decisions; Frequency: Other (as needed); Affected Public: Business or other for-profit, Not-for-profit institutions; Number of Respondents: 200; Total Annual Responses: 200; Total Annual Hours: 8,000.

(3) Type of Information Collection Request: Extension of a currently approved collection; Title of Information Collection: Request for Retirement Benefit Information; Form No.: CMS-R-0285 (OMB# 0938-0769); Use: This information is needed to determine whether a beneficiary meets the requirements for reduction of the Part A premium to zero.; Frequency: On occasion.; Affected Public: State, Local or Tribal Government; Number of Respondents: 1,500; Total Annual Responses: 1,500; Total Annual Hours: 208.

(4) Type of Information Collection Request: Extension of a currently approved collection; Title of Information Collection: End Stage Renal Disease Medical Information System ESRD Facility Survey; Form No.: CMS-2744 (OMB# 0938-0447); Use: The ESRD Facility Survey form is completed annually by Medicare approved providers of dialysis and transplant services. The CMS-2744 is designed to collect information concerning treatment trends, utilization of services and patterns of practice in treating ESRD patients.; Frequency: Annually; Affected Public: Business or other for-profit, Not-for-profit institutions; Number of Respondents: 4,225; Total Annual Responses: 4,225; Total Annual Hours: 33,800.

To obtain copies of the supporting statement and any related forms for the proposed paperwork collections referenced above, access CMS's Web site address at http://www.hcfa.gov/regs/prdact95.htm, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: October 10, 2002.
John P. Burke, III,
Paperwork Reduction Act Team Leader, CMS Reports Clearance Officer, Office of Strategic Operations and Strategic Affairs, Division of Regulations Development and Issuances.

[FR Doc. 02-26652 Filed 10-18-02; 8:45 am]

BILLING CODE 4120-03-P